DEPARTMENT OF LABOR

Employment and Training Administration

[TA-W-59,952]

Schott North America, Inc.; Duryea, PA; Notice of Termination of Investigation

Pursuant to Section 221 of the Trade Act of 1974, as amended, an investigation was initiated on August 25, 2006 in response to a petition filed by a United Food and Commercial Workers, Local 1776 Representative and a company official on behalf of workers at Schott North America, Inc., Duryea, Pennsylvania.

The petitioner has requested that the petition be withdrawn. Consequently, the investigation has been terminated.

Signed at Washington, DC this 26th day of September, 2006.
Elliott S. Kushner,
Certifying Officer, Division of Trade Adjustment Assistance.

[FR Doc. E6-16352 Filed 10-3-06; 8:45 am]

BILLING CODE 4510-30-P